DEPARTMENT OF HEALTH AND HUMAN SERVICES

Agency for Healthcare Research and Quality

Nominations of Topics for Evidence-based Practice Centers

AGENCY: Agency for Healthcare Research and Quality (AHRQ), HHS.

ACTION: Nomination of topics for evidence reports, technology assessments, and comparative and effectiveness reviews.

SUMMARY: AHRQ invites nominations of topics for evidence reports, technology assessments, and comparative and effectiveness reviews conducted by its Evidence-based Practice Centers (EPC) Program relating to the prevention, diagnosis, treatment and management of common diseases and clinical conditions, as well as topics relating to the organization and financing of health care. Previous evidence reports and comparative effectiveness reviews can be found at http://www.ahrq.gov/clinic/epcix.htm and http://effectivehealthcare.ahrq.gov/products/progress.cfm, respectively.

DATES: Topic nominations for general evidence reports should be submitted by May 14, 2007, in order to be considered for fiscal year 2007 selection. Topic nominations for comparative and effectiveness reviews are accepted on an on going basis at: http://effectivehealthcare.ahrq.gov/topicNomination/nominationsForm.cfm. In addition to timely responses to this request for nominations, AHRQ also accepts topic nominations on an ongoing basis for consideration for future years. Topics submitted for consideration as general evidence reports will concurrently be considered as comparative effectiveness reviews as appropriate. AHRQ will not reply to individual responses, but will consider all nominations during the selection process. Those who submit topics that are selected will be notified by AHRQ.

ADDRESSES: Topics nominations should be submitted to Beth A. Collins Sharp, Ph.D., R.N., Director, Evidence-based Practice Centers (EPC) Program, Center for Outcomes and Evidence, AHRQ, 540 Gaither Road, Rockville, MD 20850. Electronic submissions to epc@ahrq.gov are preferred.

FOR FURTHER INFORMATION CONTACT: Beth A. Collins Sharp, Ph.D., R.N., Center for Outcomes and Evidence, AHRQ, 540 Gaither Road, Rockville, MD 20850; Phone: (301) 427-1503; Fax: (301) 427-1640; E-mail: beth.collinssharp@ahrq.hhs.gov.

Arrangement for Public Inspection: All nominations will be available for public inspection by appointment at the Center for Outcomes and Evidence, telephone (301) 427-1600, weekdays between 8:30 a.m. and 5 p.m. (Eastern time).

SUPPLEMENTARY INFORMATION:

1. Background

Under Title IX of the Public Health Service Act, AHRQ is charged with enhancing the quality, appropriateness, and effectiveness of health care services and access to such services. AHRQ accomplishes these goals through scientific research, including evaluative medical literature reviews and technology assessments, and through the promotion of improvements in clinical practice and health systems practices.

2. Purpose and Overview

The purpose of this notice is to solicit topic nominations for evidence reports, technology assessments, and comparative and effectiveness reviews. Professional societies, health systems, employers, insurers, providers, and consumer groups are encouraged to nominate topics and then collaborate with AHRQ, as it carries out its mission to promote the practice of evidence-based health care. In this endeavor, AHRQ serves as a science partner with private-sector and public organizations in their efforts to improve the quality, effectiveness, and appropriateness of health care delivery in the United States, and to expedite the translation of evidence-based research findings into improved health care services. To undertake scientific analyses and evidence syntheses on topics of high priority to its public and private health care partners and the health care community generally, AHRQ awards task order contracts to its Evidence-based Practice Centers (EPCs).

The EPCs produce systematic reviews of the scientific literature—evidence reports, technology assessments, and comparative and effectiveness reviews—that provide to public and private organizations the foundation for developing and implementing their own practice guidelines, performance measures, educational programs, and other strategies to improve the quality of health care and decision-making related to the effectiveness and appropriateness of specific health care technologies and services. The evidence reports, technology assessments, and comparative and effectiveness reviews also may be used to inform coverage and reimbursement policies. As the body of scientific studies related to organization and financing of health care grows, systematic review and analysis of these studies, in addition to clinical and behavioral research, can provide health system organizations with a scientific foundation for developing or improving system-wide policies and practices.

Currently, AHRQ supports approximately nine general evidence reports per year, in collaboration with non-federal partners, and 4-10 comparative effectiveness reviews. Nominations of general topics from non-Federal partners are solicited annually through a notice in the Federal Register. However, topic nominations are accepted on an ongoing basis. All nominations received in the previous year as well as topics that were previously submitted but not selected are considered for the upcoming year.

Reports and assessments usually require about 12 months for completion once assigned to an EPC. AHRQ widely disseminates the EPC evidence reports and technology assessments, both electronically and in print. The EPC evidence reports, technology assessments and comparative and effectiveness reviews do not make clinical recommendations or recommendations regarding reimbursement and coverage policies.

3. Role/Responsibilities of Partners for General Topics

Nominators of topics selected for development of an EPC evidence report assume the role of Partners of AHRQ and the EPCs. Partners have defined roles and responsibilities. AHRQ places high value on these cooperative relationships, and takes into consideration a Partner organization's past performance of these responsibilities when considering whether to accept additional topics nominated by that organization in subsequent years. Specifically, Partners are expected to serve as resources to EPCs as they develop the evidence reports related to the nominated topic; serve as external peer reviewers of relevant draft evidence reports and assessments; and commit to timely translation of the EPC reports and assessments into their town quality improvement tolls (e.g., clinical practice guidelines, performance measures), educational programs, or reimbursement policies; and dissemination of these derivative products to their membership or other health care stakeholders, as appropriate. AHRQ also is interested in all the uses of these derivative products and the products' impact on enhanced health care. AHRQ looks to its Partners to provide use and impact data on products that are based on EPC evidence reports and technology assessments.

4. Topics for Reports

The EPCs prepare evidence reports, technology assessments, and comparative and effectiveness reviews on topics for which there is significant demand for information by health care providers, insurers, purchasers, health-related societies, and patient advocacy organizations. Such topics may include the prevention, diagnosis and/or treatment of particular clinical and behavioral conditions, use of alternative or complementary therapies, and appropriate use of commonly provided services, procedures, or technologies. Topics also may include issues related to the organization and financing of care such as risk adjustment methodologies, market performance measures, provider payment mechanisms, and insurance purchasing tools, as well as measurement or evaluation of provider integration of new scientific findings regarding health care and delivery innovations. Previous reports and reviews can be found at http://www.ahrg.gov/clinic/epcix.htm and http://effectivehealthcare.ahrg.gov/products/progress.cfm.

AHRQ is very interested in receiving topic nominations from professional societies and organizations composed of members of minority populations, as well as topic nominations that have significant impact on AHRQ priority populations including low income groups, minority groups, women, children, the elderly, and individuals with special health care needs, such as those with disabilities, those who need chronic care or end-of-life healthcare, or those who live in inner-city and rural areas.

5. Topic Nomination

Nominations of topics for AHRQ evidence reports, technology assessments, and comparative effectiveness reviews should focus on specific aspects of prevention, diagnosis, treatment and/or management of a particular condition; an individual procedure, treatment, or technology; or a specific healthcare organizational or financial strategy. The processes that AHRQ employs to select clinical and behavioral topics as well as organization and financing topics nominated by the EPCs are described below. For each topic, the nominating organization must provide the following information:

A. Rationale and supporting evidence on the relevance and importance of the topic;

B. Three to five focused questions on the topic to be addressed;

C. Plans for rapid translation of the evidence reports and technology assessments into clinical guidelines, performance measures, educational programs, or other strategies for strengthening the quality of health care services, or plans to inform development of reimbursement or coverage policies;

D. Plans for use and/or dissemination of these derivative products, e.g., to membership and others, if appropriate; and,

E. Process by which the nominating organization will measure the use of these products and impact of such use.

6. Topic Selection

Factors that will be considered in the selection of topics for AHRQ evidence reports, technology assessments, and comparative and effectiveness reviews and which should/may be addressed in nomination material, include:

A. Burden of related disease(s) including severity, incidence and/or prevalence or relevance of the organizational/financial topic to the general population and/or AHRQ's or the Secretary's priorities which are available at http://www.effectivehealthcare.ahrq.gov;

B. Total costs associated with a condition, procedure, treatment, technology, or organization/financial topic taking into account the number of people needing such care, the unit cost of care, and related or indirect costs;

C. Relevance to the needs of the Medicare, Medicaid and other Federal healthcare programs;

D. Controversy or uncertainty about the topic and availability of scientific data to support the systematic review and analysis of the topic;

E. Potential for reducing clinically significant variations in the prevention, diagnosis, treatment, or management of a disease or condition; or in changing the use of a procedure or technology; informing and improving patient and/or provider decisionmaking; improving health outcomes; and/or reducing costs; and,

F. Nominating organization's plan to disseminate derivative products, measure use and impact of these products on outcomes, or otherwise incorporate the report into its managerial or policy decision making.

7. Submission of Nominations

Topics nominations for general topics should be submitted to Beth A. Collins Sharp, PhD, R.N., Director, Evidence-based Practice Centers (EPC) Program, Center for Outcomes and Evidence, AHRQ, 540 Gaither Road, Rockville, MD 20850. Electronic submissions to epc@ahrq.gov are preferred. Topic nominations for comparative effectiveness reviews should be submitted to http://www.effectivehealthcare.ahrq.gov.

Dated: April 5, 2007.
Carolyn M. Clancy,
Director.

[FR Doc. 07-1813 Filed 4-16-07; 8:45 am]

BILLING CODE 4160-90-M